DEPARTMENT OF HOMELAND SECURITY

Office of the Secretary

Public Workshop: Operationalizing Privacy: Compliance Frameworks & Privacy Impact Assessments

AGENCY: Privacy Office, DHS.

ACTION: Notice announcing public workshop.

SUMMARY: The Department of Homeland Security Privacy Office will host a public workshop, “Operationalizing Privacy: Compliance Frameworks & Privacy Impact Assessments,” to explore policy, legal, and operational frameworks for Privacy Impact Assessments (PIAs) and Privacy Threshold Analyses (PTAs).

DATES: The workshop will be held on Thursday, June 15, 2006, from 8:30 a.m. to 4 p.m.

ADDRESSES: The workshop will be held in the Auditorium of the GSA Regional Headquarters, 7th & D Streets, SW., Washington, DC 20024.

FOR FURTHER INFORMATION CONTACT: Kathleen Kavanaugh, Privacy Office, Department of Homeland Security, Arlington, VA 22202 by telephone (571) 227-3813, by facsimile (571) 227-4171, or by e-mail privacyworkshop@dhs.gov.

SUPPLEMENTARY INFORMATION: The Department of Homeland Security (DHS) Privacy Office is holding a public workshop to explore the compliance and operational frameworks of privacy, including training on drafting Privacy Impact Assessments (PIAs) and Privacy Threshold Analyses (PTAs).

The program will be organized into two sessions, a morning and an afternoon session. The morning session will include two discussion panels. The first panel will cover the compliance and operational frameworks required to integrate privacy protections into any organization. The second panel will cover compliance with Federal requirements for privacy, including System of Records Notices, PIAs, Certification & Accreditation under the Federal Information Security Management Act, and the Office of Management and Budget annual budget process (OMB-300). In addition to the panel discussions, time will be allotted during the workshop for questions and comments from the audience.

The afternoon session will be a tutorial on how to write PIAs and PTAs. A case study will be used to illustrate a step-by-step approach to researching, preparing, and writing these documents.

The workshop is open to the public and there is no fee for attendance. For general security purposes, the GSA Regional Headquarters requires that all attendees show a valid form of photo identification, such as a driver's license, to enter the building.

The DHS Privacy Office has developed PIA guidance and templates for PIAs and PTAs for DHS programs. The guidance and templates are posted on our Web site at http://www.dhs.gov/privacy. In addition, the Privacy Office will post information about the workshop, including a detailed agenda, on the Web site prior to the event. A transcript of the workshop will be posted shortly after the workshop.

Registration: Registration is recommended but not required. Registration guarantees admittance. For non-registrants seating will be allocated on a first-come, first-served basis, so please arrive early. For seating purposes, when registering, please specify if you plan to attend the entire conference or just one of the two sessions. Persons with disabilities who require special assistance should indicate this in their admittance request and are encouraged to identify anticipated special needs as early as possible. You may register by e-mail at privacyworkshop@dhs.gov or by calling (571) 227-3813.

Dated: May 16, 2006.
Maureen Cooney,
Acting Chief Privacy Officer, Chief Freedom of Information Act Officer.

[FR Doc. E6-7905 Filed 5-23-06; 8:45 am]

BILLING CODE 4410-10-P